DEPARTMENT OF COMMERCE

National Oceanic and Atmospheric Administration

[I.D. 030706C]

Marine Mammals; File No. 1093-1834

AGENCY: National Marine Fisheries Service (NMFS), National Oceanic and Atmospheric Administration (NOAA), Commerce.

ACTION: Notice; receipt of application.

SUMMARY: Notice is hereby given that Susan Shaw, PhD., Executive Director, Marine Environmental Research Institute, 55 Main Street, P.O. Box 1652, Blue Hill, ME, 04614, has applied in due form for a permit to conduct research on harbor seals (Phoca vitulina concolor).

DATES: Written, telefaxed, or e-mail comments must be received on or before April 13, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9200; fax (978)281-9371.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1093-1834

.

FOR FURTHER INFORMATION CONTACT: Kate Swails or Tammy Adams, (301)713-2289.

SUPPLEMENTARY INFORMATION: The subject permit is requested under the authority of the Marine Mammal Protection Act of 1972, as amended (MMPA; 16 U.S.C. 1361 et seq.), and the Regulations Governing the Taking and Importing of Marine Mammals (50 CFR part 216).

The applicant requests a 5-year permit to investigate the utility of free-ranging harbor seals as a mammalian sentinel species for coastal contamination and associated health risks for top consumers in the marine food chain. Harbor seal pups tend to accumulate high body burdens of persistent organic pollutants. The applicant proposes to capture up to 280 harbor seal pups at six locations from Maine to Massachusetts over the course of the permit. The animals would be captured using seine nets or hand held hoop nets, measured, weighed, blood sampled, blubber/skin biopsied, swabbed for fecal and nasal samples, and released. The applicant also requests authorization for the research-related mortality of up to two seals over the course of the permit.

Concurrent with the publication of this notice in the Federal Register, NMFS is forwarding copies of this application to the Marine Mammal Commission and its Committee of Scientific Advisors.

Dated: March 8, 2006.
Stephen L. Leathery,
Chief, Permits, Conservation and Education Division, Office of Protected Resources, National Marine Fisheries Service.

[FR Doc. E6-3629 Filed 3-13-06; 8:45 am]

BILLING CODE 3510-22-S